Proclamation 10303 of October 29, 2021

National Veterans and Military Families Month, 2021

By the President of the United States of America

A Proclamation

America has the greatest Armed Forces in the history of the world. To those who serve and those that serve alongside them—their families and caregivers—we owe a debt we can never fully repay. During National Veterans and Military Families Month, we recognize and thank them for their indispensable contributions and immeasurable sacrifices in support of our national security. As we approach this season of thanksgiving, we send our gratitude to millions of service members, veterans, military families, caregivers, and survivors who have served and continue to serve our Nation. I have said many times, and it comes from my heart—we as a Nation have a sacred obligation to properly equip and prepare our troops when we send them in to harm's way and to support them and their families, both while they are deployed and when they return home.

The First Lady and I know that it is not only the person who wears the uniform serving our country but also their families who make enormous sacrifices for our Nation. As the poet John Milton wrote, “They also serve who only stand and wait.” We understand the feelings of pride, uncertainty, and fear when a loved one is deployed. Every morning, you wake up and say that extra prayer for them.

Our veteran and military families do so much and ask for little. They are strong and adaptable, changing course to accommodate the needs of our country, often foregoing personal wishes. They are capable and proud, holding down the home front during their loved one's deployments, coping through their absence and the risk of danger, and helping them readjust when they come home.

These families and their Soldiers, Sailors, Airmen, Marines, Guardians, and Coast Guardsmen, are simply the best America has to offer. When they do not have what they need to thrive, it is not only individuals who suffer. If service members are worried that their spouse is struggling to keep food on the table or that their child is having a hard time at school, it is harder to focus on their mission. That is why supporting military families is a national security imperative.

Since the earliest days of my Administration, we have been committed to a whole-of-government approach to responding to the real-time needs of our military and veteran families. Through Joining Forces, the White House initiative to support veteran and military families, caregivers, and survivors, my Administration is addressing military spouse employment and entrepreneurship, military child education, and family health and well-being. The First Lady has met with our Nation's military and veteran families, caregivers, survivors, and advocates to learn how we can better support and prioritize their needs. Those discussions help inform the efforts across the Government to share data, create innovative solutions, and implement evidence-based programs and policies. In September, Joining Forces and the National Security Council released a report outlining the first round of Administration-wide commitments and proposals for supporting military and veteran families, caregivers, and survivors. We are committed to continuing these efforts because we must, and we will, honor our sacred obligation to support our military and veteran families and ensure they receive the resources they need to thrive.

Throughout November, we show our appreciation to the spouses, partners, children, caregivers, and survivors of our service members and veterans for their selfless sacrifice on behalf of the Nation. We honor them and their invaluable contributions; we share their pride in our Armed Forces; and we will never forget what they and their loved ones do for us.

NOW, THEREFORE, I, JOSEPH R. BIDEN JR., President of the United States of America, by virtue of the authority vested in me by the Constitution and the laws of the United States, do hereby proclaim November 2021 as National Veterans and Military Families Month. I call upon the people of the United States to honor veterans and military families with appropriate ceremonies and activities.

IN WITNESS WHEREOF, I have hereunto set my hand this twenty-ninth day of October, in the year of our Lord two thousand twenty-one, and of the Independence of the United States of America the two hundred and forty-sixth.

[FR Doc. 2021-24122

Filed 11-2-21; 8:45 am]

Billing code 3395-F2-P